DEPARTMENT OF TRANSPORTATION

Federal Aviation Administration

14 CFR Part 71

[Docket No. FAA-2025-0668; Airspace Docket No. 24-ASO-34]

RIN 2120-AA66

Establishment of United States Area Navigation (RNAV) Routes Q-190 and T-497, and Amendment of Domestic Very High Frequency Omnidirectional Range (VOR) Federal Airways V-1, V-70, and V-194; Eastern United States; Correction

AGENCY: Federal Aviation Administration (FAA), DOT.

ACTION: Final rule; correction.

SUMMARY: This action corrects a final rule the FAA published in the Federal Register on January 2, 2026, establishing United States Area Navigation (RNAV) Routes Q-190 and T-497, and amending domestic Very High Frequency Omnidirectional Range (VOR) Federal Airways V-1, V-70, and V-194, in the eastern United States. This action corrects the route description of RNAV Route Q-190 by adding two route points to clarify that the route is only established within United States airspace.

DATES: The effective date of the final rule published in the Federal Register on January 2, 2026 (91 FR 19) remains 0901 UTC, March 19, 2026. The Director of the Federal Register approves this incorporation by reference action under 1 CFR part 51, subject to the annual revision of FAA Order JO 7400.11 and publication of conforming amendments.

ADDRESSES: FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

History

The FAA published a final rule in the Federal Register (91 FR 19; January 2, 2026), establishing RNAV Routes Q-190 and T-497, and amending domestic VOR Federal Airways V-1, V-70, and V-194, in the eastern United States. Subsequent to publication of the final rule the FAA determined that, with respect to RNAV Route Q-190, the route segment between Carleton, MI (CRL), VOR/Distance Measuring Equipment (VOR/DME) and the WIGGZ, PA, waypoint (WP) failed to exclude the portion of the route within Canadian airspace as required.

This action corrects this error by amending the route description of RNAV Route Q-190 to include two new route points where the route intersects the United States/Canadian border. Specifically, the FAA adds the RONZY, MI, WP and the PRANI, OH, WP to the route description of RNAV Route Q-190, thereby excluding Canadian airspace. The addition of these two route points does not substantively alter the route but rather excludes Canadian airspace, as originally intended.

Correction to Final Rule

Accordingly, pursuant to the authority delegated to me, in Docket No. FAA-2025-0668 as published in the Federal Register on January 2, 2026 (91 FR 19), FR Doc. 2025-24218, is corrected as follows:

§ 71.1 [Corrected]

On the bottom of page 20, delete the table spanning across all three columns, which is titled “Q-190 Carleton, MI (CRL) to PONCT, NY [New]”, and replace it with the following table.

Q-190 Carleton, MI (CRL) to PONCT, NY [New]
Carleton, MI (CRL) | VOR/DME | (Lat. 42°02′52.90″ N, long. 083°27′27.26″ W)
RONZY, MI | WP | (Lat. 42°01′28.49″ N, long. 083°08′31.98″ W)
and
PRANI, OH | WP | (Lat. 41°55′16.34″ N, long. 081°52′20.28″ W)
WIGGZ, PA | WP | (Lat. 41°30′51.00″ N, long. 077°58′52.00″ W)
RAHKS, NY | WP | (Lat. 42°27′59.28″ N, long. 075°14′21.68″ W)
PONCT, NY | WP | (Lat. 42°44′48.83″ N, long. 073°48′48.07″ W)

Issued in Washington, DC, on January 29, 2026.
Alex W. Nelson,
Manager, Rules and Regulations Group.

[FR Doc. 2026-02450 Filed 2-5-26; 8:45 am]

BILLING CODE 4910-13-P